DEPARTMENT OF THE INTERIOR

National Park Service

[NPS-WASO-NAGPRA-16769; PPWOCRADN0-PCU00RP14.R50000]

Notice of Inventory Completion: Robert S. Peabody Museum of Archaeology, Phillips Academy, Andover, MA

AGENCY: National Park Service, Interior.

ACTION: Notice.

SUMMARY: The Robert S. Peabody Museum of Archaeology has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Robert S. Peabody Museum of Archaeology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Robert S. Peabody Museum of Archaeology at the address in this notice by November 17, 2014.

ADDRESSES: Dr. Ryan J. Wheeler, Robert S. Peabody Museum of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Museum of Archaeology, Phillips Academy, Andover, MA. The human remains and associated funerary objects were removed from McCain's site at Mattawamkeag in Penobscot County, ME.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Robert S. Peabody Museum of Archaeology professional staff in consultation with representatives of the Aroostook Band of Micmacs (previously listed as the Aroostook Band of Micmac Indians); Houlton Band of Maliseet Indians; Passamaquoddy Tribe; and the Penobscot Nation (previously listed as the Penobscot Tribe of Maine).

History and Description of the Remains

In 1912, human remains representing, at minimum, three individuals were removed from McCain's site in Mattawamkeag, Penobscot County, ME. McCain's site is located at the confluence of the Mattawamkeag and Penobscot Rivers, on the northeastern side of the two rivers. The site was investigated by Warren K. Moorehead as part of his extensive study of archeological sites in Maine; the human remains and associated funerary objects have been curated at the Robert S. Peabody Museum of Archaeology since their discovery by Moorehead's survey. The fragmentary remains of three individuals—one adult, one subadult, and one juvenile to subadult—were identified. The human remains consist of calcined cranial and long bone fragments. No known individuals were identified. The 14 associated funerary objects are 8 lithic flakes, 3 pebbles, 1 animal tooth (cervid), and 2 animal bone fragments (cervid).

Information about McCain's site is found in Moorehead's A Report on the Archaeology of Maine (1922), in the fieldnotes of F.B. Manning from the survey on file at the Robert S. Peabody Museum of Archaeology, and in the files of the Maine Historic Preservation Commission, Maine Archaeological Survey (site #123.6). The written sources on the site describe test excavations in a number of sites located at the juncture of the two rivers, including the discovery of Native American burials and habitation sites, at least some of which date to the period of European contact. F.B. Manning's fieldnotes attribute some of the burials discovered at Mattawamkeag to the “red ochre people,” likely a reference to what is now called the Moorehead Burial Tradition; Moorehead, however, discounts that any of the discoveries at Mattawamkeag were “Red Paint” cemeteries. Cremation burials are described by archeologists as characteristic of the Susquehanna Tradition, circa 3700 to 3000 BP in Maine. Specific descriptions of the burials described here are not found in the written sources on the site, though it seems likely that they date to the Late Archaic.

Oral history narratives that place the origins of the Penobscot, Passamaquoddy, and Maliseet in Maine are often tied to specific places, landscape features, and ecological zones characteristic of Maine. These oral history narratives are significant in affiliating the Penobscot, Passamaquoddy, and Maliseet with the McCain's site, especially as archeological evidence is equivocal regarding connections. Mattawamkeag is significant to the Wabanaki, and figures in the seventeenth through nineteenth century histories of the tribes, as supported by oral narrative, archeological evidence, and written documents. Continuous occupation and reoccupation of places, like Mattawamkeag, along with the significance of place-names, canoe and trail routes, and landscape features reaffirm Wabanaki connections and may reflect more ancient traditions of aggregation in certain places. Continuity between ancient and contemporary indigenous people is supported by the long temporal occupation of the Mattawamkeag area during Archaic, Woodland and more recent times. The use of red ochre in graves, well-known in the Late Archaic Maine cemeteries, continues to be significant to contemporary Wabanaki people. Anthropological perspectives regarding affiliation of the Wabanaki peoples with the cultures of the Late Archaic are consistent with the contemporary viewpoint of the Wabanaki.

Determinations Made by the Robert S. Peabody Museum of Archaeology

Officials of the Robert S. Peabody Museum of Archaeology have determined that:

• Pursuant to 25 U.S.C. 3001(9), the human remains described in this notice represent the physical remains of three individuals of Native American ancestry.

• Pursuant to 25 U.S.C. 3001(3)(A), the 14 objects described in this notice are reasonably believed to have been placed with or near individual human remains at the time of death or later as part of the death rite or ceremony.

• Pursuant to 25 U.S.C. 3001(2), there is a relationship of shared group identity that can be reasonably traced between the Native American human remains and associated funerary objects and the Aroostook Band of Micmacs (previously listed as the Aroostook Band of Micmac Indians); Houlton Band of Maliseet Indians; Passamaquoddy Tribe; and the Penobscot Nation (previously listed as the Penobscot Tribe of Maine).

Additional Requestors and Disposition

Lineal descendants or representatives of any Indian tribe or Native Hawaiian organization not identified in this notice that wish to request transfer of control of these human remains and associated funerary objects should submit a written request with information in support of the request to Dr. Ryan J. Wheeler, Robert S. Peabody Museum of Archaeology, Phillips Academy, 180 Main Street, Andover, MA 01810, telephone (978) 749-4490, email rwheeler@andover.edu, by November 17, 2014. After that date, if no additional requestors have come forward, transfer of control of the human remains and associated funerary objects to the Aroostook Band of Micmacs (previously listed as the Aroostook Band of Micmac Indians); Houlton Band of Maliseet Indians; Passamaquoddy Tribe; and the Penobscot Nation (previously listed as the Penobscot Tribe of Maine) may proceed.

The Robert S. Peabody Museum of Archaeology is responsible for notifying the Aroostook Band of Micmacs (previously listed as the Aroostook Band of Micmac Indians); Houlton Band of Maliseet Indians; Passamaquoddy Tribe; and the Penobscot Nation (previously listed as the Penobscot Tribe of Maine) that this notice has been published.

Dated: September 22, 2014.
Sherry Hutt,
Manager, National NAGPRA Program.

[FR Doc. 2014-24518 Filed 10-15-14; 8:45 am]

BILLING CODE 4312-50-P